DEPARTMENT OF AGRICULTURE

Animal and Plant Health Inspection Service

7 CFR Part 53

[Docket No. 01-069-2]

RIN 0579-AB34

Foot-and-Mouth Disease Payment of Indemnity; Update of Provisions

AGENCY: Animal and Plant Health Inspection Service, USDA.

ACTION: Notice of extension of comment period.

SUMMARY: We are extending the comment period for our proposed rule that would amend the regulations pertaining to the control and eradication of foot-and-mouth disease and other serious diseases by making changes to the indemnity provisions primarily related to foot-and-mouth disease. This action will allow interested persons additional time to prepare and submit comments.

DATES: We will consider all comments that we receive on or before July 31, 2002.

ADDRESSES: You may submit comments by postal mail/commercial delivery or by e-mail. If you use postal mail/commercial delivery, please send four copies of your comment (an original and three copies) to: Docket No. 01-069-1, Regulatory Analysis and Development, PPD, APHIS, Station 3C71, 4700 River Road Unit 118, Riverdale, MD 20737-1238. Please state that your comment refers to Docket No. 01-069-1. If you use e-mail, address your comment to regulations@aphis.usda.gov. Your comment must be contained in the body of your message; do not send attached files. Please include your name and address in your message and “Docket No. 01-069-1” on the subject line.

You may read any comments that we receive on Docket No. 01-069-1 in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Mark E. Teachman, Senior Staff Veterinarian, Emergency Programs, VS, APHIS, 4700 River Road Unit 41, Riverdale, MD 20737-1231; (301) 734-8073.

SUPPLEMENTARY INFORMATION:

Background

On May 1, 2002, we published in the Federal Register (67 FR 21934-21959, Docket No. 01-069-1) a proposal to amend the regulations pertaining to the control and eradication of foot-and-mouth disease (FMD) and other serious diseases, including for both cooperative programs and extraordinary emergencies. Specifically, we proposed changes in indemnity provisions primarily related to FMD. The proposed changes were prompted, in part, by a review of the regulations in light of the recent series of outbreaks of FMD in the United Kingdom and elsewhere around the world. We believe these changes are necessary to ensure the success of a control and eradication program in the event of an occurrence of FMD in the United States.

Comments on the proposed rule were required to be postmarked, delivered, or e-mailed by July 1, 2002. However, a coalition of animal and agricultural associations has requested that we extend the comment period on Docket No. 01-069-1 to allow additional time for members of the public to review the proposed rule and to submit comments due to the technical nature of certain regulatory changes contained in the proposal. In response to this request, we are extending the comment period on Docket No. 01-069-1 for an additional 30 days. We will consider all comments that we receive on or before July 31, 2002. This action will allow interested persons additional time to prepare and submit comments.

Done in Washington, DC, this 26th day of June, 2002.
Bobby R. Acord,
Administrator, Animal and Plant Health Inspection Service.

[FR Doc. 02-16421 Filed 6-27-02; 8:45 am]

BILLING CODE 3410-34-P